POSTAL SERVICE

39 CFR Parts 4, 6, and 7

Bylaws of the Board of Governors

AGENCY: Postal Service.

ACTION: Final rule.

SUMMARY: On March 24, 2010, the Board of Governors of the United States Postal Service adopted a number of amendments to the Board's Bylaws. These amendments revised and clarified the provisions concerning the election and terms of office of the Board Chairman and Vice-Chairman. The amendments also formalized the process for notation voting (voting by paper ballot) on routine or administrative matters. This final rule incorporates the changes adopted by the Board.

DATES: These amendments to the Code of Federal Regulations are effective March 26, 2012.

FOR FURTHER INFORMATION CONTACT: Julie S. Moore, Secretary of the Board, U.S. Postal Service, 475 L'Enfant Plaza SW., Washington, DC 20260-1000. Telephone: (202) 268-4800.

SUPPLEMENTARY INFORMATION: This document publishes amendments to 39 CFR Parts 4, 6, and 7, conforming to amendments to the Bylaws of the Board of Governors of the United States Postal Service. In part 4, the Board revised §§ 4.1 and 4.2 to establish December 1 as the regular commencement date of the terms of office of the newly-elected Board Chairman and Vice-Chairman. In part 6 (with a conforming amendment to part 7), the Board added a new § 6.7 to formalize the process for notation voting by paper ballot on routine, non-controversial, and administrative matters.

List of Subjects in 39 CFR Parts 4, 6, and 7

Administrative practice and procedure, Organization and functions (Government agencies), Postal Service.

Accordingly, for the reasons stated, 39 CFR Parts 4, 6, and 7 are amended as follows:

PART 4—OFFICIALS (ARTICLE IV)

1. The authority citation for part 4 continues to read as follows:

Authority: 39 U.S.C. 202-205, 401(2), (10), 402, 1003, 3013, 3686.

2. Section 4.1 is revised to read as follows:

§ 4.1 Chairman.

(a) The Chairman of the Board of Governors is elected by the Governors from among the members of the Board. The Chairman:

(1) Shall be elected at the Board's regularly scheduled November meeting for a term that commences on December 1 of the calendar year in which the election occurred, or upon the death, departure or resignation of the current Chairman, whichever occurs first, and expires upon the election and installation of a successor Chairman;

(2) Shall preside at all regular and special meetings of the Board, and shall set the agenda for such meetings;

(3) Shall select and appoint the chairman, vice chairman (if any), and members of any committee properly established by the Board.

(b) If the Postmaster General is elected Chairman of the Board, the Governors shall also elect one of their number to preside during proceedings dealing with matters upon which only the Governors may vote.

(c) In the event of the Chairman's death, departure or resignation prior to the election of a successor, the Board, as soon as practicable, shall elect a new Chairman who shall serve a term that commences immediately upon election and expires upon the election and installation of a successor Chairman.

(d)(1) Upon the election and installation of a new Chairman of the Board, the immediate past Chairman shall become Chairman Pro Tempore of the Board, to preside during the absence of the Chairman and Vice Chairman at any meeting of the Board during the year or years following the immediate past Chairman's tenure as Chairman and until another Chairman has been elected.

(2) The Chairman Pro Tempore shall, at the request of the Chairman or Vice Chairman, serve as the representative of the Board of Governors at conferences, trade shows, ceremonial functions and other meetings important to Postal Service business.

3. Section 4.2 is revised to read as follows:

§ 4.2 Vice Chairman.

The Vice Chairman is elected by the Governors from among the members of the Board and shall perform the duties and exercise the powers of the Chairman during the Chairman's absence or disability. The Vice Chairman is elected at the Board's regularly scheduled November meeting for a term that commences on December 1 of the calendar year in which the election occurred or upon the death, departure or resignation of the current Vice Chairman, whichever occurs first, and expires upon the election and installation of a successor Vice Chairman. In the event of the Vice Chairman's death, departure or resignation prior to the election of a successor, the Board, as soon as practicable, shall elect a new Vice Chairman who shall serve a term that commences immediately upon election and expires upon the election and installation of a successor Vice Chairman.

PART 6—MEETINGS (ARTICLE VI)

4. The authority citation for part 6 continues to read as follows:

Authority: 39 U.S.C. 202, 205, 401(2), (10), 1003, 3622; 5 U.S.C. 552b(e), (g).

5. Section 6.6 is amended by revising the introductory text to read as follows:

§ 6.6 Quorum and voting.

As provided by 39 U.S.C. 205(c), and except for routine, non-controversial, and administrative matters considered through the notation voting process described in § 6.7, the Board acts by resolution upon a majority vote of those members who attend a meeting in person or by teleconference. No proxies are allowed in any vote of the members of the Board. Any 6 members constitute a quorum for the transaction of business by the Board, except:

* * * * *

6. Section 6.7 is added to read as follows:

§ 6.7 Notation voting.

(a) General. Notation voting consists of the circulation of written memoranda and voting sheets to each member of the Board simultaneously and the tabulation of submitted responses. Notation voting may be used only for routine, non-controversial, and administrative matters.

(b) Administrative Responsibility. The Secretary of the Board is responsible for:

(1) Distributing notation voting memoranda and voting sheets;

(2) Establishing deadlines for notation voting sheets to be completed and returned;

(3) Processing and tabulating all notation voting sheets; and

(4) Determining whether further action is required.

(c) Veto of notation voting. In view of the public policy for openness reflected in the Government in the Sunshine Act and in these bylaws, each Board member is authorized to veto the use of notation voting for the consideration of any matter. If a Board member vetoes the use of notation voting, the Secretary must notify all members of such action, and must promptly take action to place the particular matter on the agenda of the next regularly scheduled Board meeting following the date of the veto, or to schedule a teleconference to consider the matter, as appropriate.

(d) Disclosure of result. The Secretary shall maintain all records pertaining to Board actions taken pursuant to the notation voting process, and shall make such records available for public inspection, consistent with the Freedom of Information Act, 5 U.S.C. 552.

PART 7—PUBLIC OBSERVATION (ARTICLE VII)

7. The authority citation for part 7 continues to read as follows:

Authority: 39 U.S.C. 410; 5 U.S.C. 552b(a)-(m).

8. Section 7.1 is amended by revising the final sentence of paragraph (b) to read as follows:

§ 7.1 Definitions.

* * * * *

(b) * * * The term ”meeting” does not include any procedural deliberations required or permitted by §§ 6.1, 6.2, 7.4, or 7.5 of the bylaws in this chapter, or the notation voting process described in § 6.7 of the bylaws in this chapter.

Stanley F. Mires,
Attorney, Legal Policy & Legislative Advice.

[FR Doc. 2012-7098 Filed 3-23-12; 8:45 am]

BILLING CODE 7710-12-P